FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR 515.

License No. | Name/address | Date reissued
17408F | Maraly International, Corp., 7206 NW 84th Avenue, Miami, FL 33166 | July 7, 2002.
17413NF | Venture Transport, Inc., dba ASCO Freight Management, 314 North Post Oak Lane, Houston, TX 77024 | September 4, 2002.

Sandra L. Kusumoto,
Director, Bureau of Consumer Complaints and Licensing.

[FR Doc. 02-27645 Filed 10-29-02; 8:45 am]

BILLING CODE 6730-01-P